DEPARTMENT OF TRANSPORTATION

Federal Motor Carrier Safety Administration

49 CFR Part 383

[Docket No. FMCSA-2025-0118]

RIN 2126-AC92

Commercial Driver's License Standards; Requirements and Penalties: Applicability to the Exception for Certain Military Personnel

AGENCY: Federal Motor Carrier Safety Administration (FMCSA), Department of Transportation (DOT).

ACTION: Notice of proposed rulemaking (NPRM).

SUMMARY: FMCSA proposes to amend the Federal Motor Carrier Safety regulations (FMCSRs) to allow dual-status military technicians to qualify for the exception for certain military personnel from commercial driver license (CDL) standards. This rulemaking responds to a petition for rulemaking submitted by James D. Welch.

DATES: Comments must be received on or before July 29, 2025.

ADDRESSES: You may submit comments identified by Docket Number FMCSA-2025-0118 using any of the following methods:

• Federal eRulemaking Portal: Go to https://www.regulations.gov/docket/FMCSA-2025-0118/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Nikki McDavid, Chief, CDL Division, FMCSA, 1200 New Jersey Avenue SE, Washington, DC 20590, (202) 366-0831, nikki.mcdavid@dot.gov. If you have questions on viewing or submitting material to the docket, call Dockets Operations at (202) 366-9826.

SUPPLEMENTARY INFORMATION: FMCSA organizes this NPRM as follows:

I. Public Participation and Request for Comments

A. Submitting Comments

B. Viewing Comments and Documents

C. Privacy

II. Abbreviations

III. Legal Basis

IV. Background

A. Military Technicians

B. Regulatory History

C. Need for Rulemaking

V. Discussion of Proposed Rulemaking

VI. International Impacts

VII. Section-by-Section Analysis

VIII. Regulatory Analyses

A. E.O. 12866 (Regulatory Planning and Review), E.O. 13563 (Improving Regulation and Regulatory Review), and DOT Regulatory Policies and Procedures

B. E.O. 14192 (Unleashing Prosperity Through Deregulation)

C. Advance Notice of Proposed Rulemaking

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

L. Rulemaking Summary

I. Public Participation and Request for Comments

A. Submitting Comments

If you submit a comment, please include the docket number for this NPRM (FMCSA-2025-0118), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0118/document, click on this NPRM, click “Comment,” and type your comment into the text box on the following screen.

If you submit your comments by mail or hand delivery, submit them in an unbound format, no larger than 8½ by 11 inches, suitable for copying and electronic filing.

FMCSA will consider all comments and material received during the comment period.

Confidential Business Information (CBI)

CBI is commercial or financial information that is both customarily and actually treated as private by its owner. Under the Freedom of Information Act (5 U.S.C. 552), CBI is exempt from public disclosure. If your comments responsive to the NPRM contain commercial or financial information that is customarily treated as private, that you actually treat as private, and that is relevant or responsive to the NPRM, it is important that you clearly designate the submitted comments as CBI. Please mark each page of your submission that constitutes CBI as “PROPIN” to indicate it contains proprietary information. FMCSA will treat such marked submissions as confidential under the Freedom of Information Act, and they will not be placed in the public docket of the NPRM. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this rulemaking.

B. Viewing Comments and Documents

To view any documents mentioned as being available in the docket, go to https://www.regulations.gov/docket/FMCSA-2025-0118/document and choose the document to review. To view comments, click this NPRM, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

In accordance with 5 United States Code (U.S.C.) 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

II. Abbreviations

AFI Air Force Instruction

ANPRM Advance notice of proposed rulemaking

ART Air Reserve Technician

CBI Confidential Business Information

CDL Commercial Drivers License

CFR Code of Federal Regulations

CMV Commercial motor vehicle

CMVSA Commercial Motor Vehicle Safety Act

DoD Department of Defense

DOT Department of Transportation

ELDT Entry-Level Driver Training

FHWA Federal Highway Safety Administration

FMCSA Federal Motor Carrier Safety Administration

FMCSRs Federal Motor Carrier Safety Regulations

FR Federal Register

NPRM Notice of proposed rulemaking

OMB Office of Management and Budget

PIA Privacy Impact Assessment

PTA Privacy Threshold Assessment

UCMJ Uniform Code of Military Justice

UMRA Unfunded Mandates Reform Act of 1995

U.S.C. United States Code

III. Legal Basis

The Administrator of FMCSA is delegated authority under 49 CFR 1.87 to carry out the functions vested in the Secretary of Transportation (the Secretary) by 49 U.S.C. chapters 311, 313, and 315 as they relate to CMV operators, programs, and safety. The CDL regulations are based primarily on the broad authority of the Commercial Motor Vehicle Safety Act of 1986 (CMVSA or the 1986 Act) (Title XII of Pub. L. 99-570, 100 Stat. 3207-170 (Oct. 27, 1986)), as amended, codified at 49 U.S.C. chapter 313, which established the CDL program. The authority for FMCSA to require an operator of a CMV to obtain a CDL rests on the authority found in 49 U.S.C. 31302. FMCSA, in accordance with 49 U.S.C. 31311 and 31314, has authority to prescribe procedures and requirements for the States to observe in order to issue CDLs (set forth, generally, in 49 CFR part 384).

Section 12013 of the CMVSA allowed the Federal Highway Administration (FHWA), FMCSA's predecessor agency, to “waive, in whole or in part, application of any provision of this title or any regulation issued under this title with respect to class of persons or class of commercial motor vehicles if the Secretary determines that such waiver is not contrary to the public interest and does not diminish the safe operation of commercial motor vehicles” (Pub. L. 99-570, Title XII, 100 Stat. 3207-170, 3207-186 (Oct. 27, 1986), codified at 49 U.S.C. app. 2711). Following statutory amendments,¹ the language of the CMVSA's section 12013—that a waiver must be “not contrary to the public interest” and “not diminish the safe operation of commercial motor vehicles”—has been replaced by the standard that a waiver or exemption must “likely achieve a level of safety that is equivalent to, or greater than, the level that would be achieved in the absence of the waiver” (49 U.S.C. 31315(a)) or “absent such exemption” (49 U.S.C. 31315d(b)(1)).

¹ When Title 49, United States Code, was recodified in 1994, the waiver authority in 49 U.S.C. app. 2711 was redesignated as 49 U.S.C. 31315 (Pub. L. 103-272, 108 Stat. 745, 1029, July 5, 1994). Subsequently, the Transportation Equity Act for the 21st Century revised 49 U.S.C. 31315 as “Waivers, exemptions, and pilot programs” (Pub. L. 105-178, 112 Stat. 107, 401, June 9, 1998).

The NPRM is also consistent with the Motor Carrier Safety Act of 1984 (Title II of Pub. L. 98-554, 98 Stat. 2832 (Oct. 30, 1984)), as amended, codified at 49 U.S.C. 31131, et seq.; and the Motor Carrier Act of 1935 (49 Stat. 543 (Oct. 9, 1935)), as amended, codified at 49 U.S.C. 31502. The 1984 statute granted the Secretary broad authority to issue regulations on commercial motor vehicle safety, including regulations to ensure that “commercial motor vehicles are maintained, equipped, loaded, and operated safely” (49 U.S.C. 31136(a)(1)). The NPRM is consistent with the safe operation of CMVs. In accordance with section 31136(a)(2), the amendment proposed in the NPRM will not impose any “responsibilities . . . on operators of commercial motor vehicles [that would] impair their ability to operate the vehicles safely.” This NPRM does not directly address medical standards for drivers (section 31136(a)(3)) or possible physical effects caused by driving CMVs (section 31136(a)(4)). FMCSA does not anticipate that drivers will be coerced (section 31136(a)(5)) if the NPRM results in the issuance of a final rule as it would simply permit certain military personnel to operate subject to the same requirements as other military personnel currently operate. Under 49 U.S.C. 31316(e), the Secretary is authorized to grant waivers from any regulations prescribed under this section.

IV. Background

A. Military Technicians

Military units have long employed civilian technicians to provide day-to-day support such as training, maintenance, and other activities required to support the unit. In the National Defense Authorization Act for Fiscal Year 1996 (Pub. L. 104-106 (Feb. 10, 1996)), Congress authorized the creation of a position known as a dual-status military technician, who are required by law to maintain military status in one of the Army or Air Force Reserve Components as a condition of their civilian employment (10 U.S.C. 10216).

The Army and the Air Force each have two Reserve Components—a National Guard and a Reserve. National Guard technicians work for the adjutants general of the 54 U.S. States, territories, and the District of Columbia in the Army National Guard or the Air National Guard. Reserve technicians work under the oversight of either the Army Reserve Command or Air Force Reserve Command.

Congress also moved to reduce or phase out the employment of non-dual status technicians (10 U.S.C. 10217). Some military technicians are permanent appointments, while others are nonpermanent and generally serve for 1 to 6 years (see GAO Report to Congressional Committees, Military Personnel: Actions Needed to Improve Workforce Data for Technicians Supporting Mission Readiness (Apr. 2022)). Army and Air Force Reserve Components may use nonpermanent military technicians to fill vacancies created when permanent military technicians deploy, are fulfilling military training requirements, or are completing education and schooling. Such technicians may also be needed to fill critical vacancies created by attrition and for other staffing requirements.

Since 2017, Air Force Reserve technicians have been required to wear miliary uniforms while on duty, but wearing the military uniform does not subject Air Force Reserve Technicians to the Uniform Code of Military Justice (UCMJ) (see Air Force Instruction (AFI) 36-128 Pay Setting and Allowance, AFI 36-147 Civilian Conduct and Responsibility, and AFI 36-2903 Dress and Personal Appearance of Department of the Air Force Personnel). Under Army Regulation 670.1(7), Army Reserve technicians who are members of the Army Reserve may opt to wear the uniform while in civil service status but are not required to do so.

B. Regulatory History

In 1988, FHWA published a notice of final disposition that granted waivers from the 1986 Act (CMVSA) to various categories of professionals (53 FR 37313, Sept. 26, 1988). One such category was military personnel. FHWA stated that military vehicles, when operated by military personnel in pursuit of military purposes, are beyond the intended coverage of the CMVSA. The waiver applied to “active duty military personnel and members of the reserves and national guard on active duty, including personnel on full-time national guard duty, personnel on part-time training and national guard military technicians (civilians who are required to wear military uniforms and are subject to the code of military justice).”

In 1993, FHWA published extensive regulatory guidance (58 FR 60734, Nov. 17, 1993). One provision further explained the waiver of CDL requirements for military personnel. Question 19 asked whether waiver of the CDL requirements for military personnel included U.S. Army Reserve technicians. FHWA's guidance was that it did not, because U.S. Reserve technicians failed to meet either of the conditions that would distinguish them from other civilian drivers working for the military. FHWA continued, “These conditions are that they are required to wear military uniforms or are subject to the code of military justice while in their employment as technicians.” Notably, while the 1988 final disposition used the word “and” when setting out the two conditions that qualified a person for exemption, indicating that the person must both wear a uniform and be subject to the UCMJ, the 1993 guidance used the word “or,” indicating that either condition standing alone would be sufficient. Another guidance question from the same notice, Question 17, also implies that meeting just one prong of the test is enough for the exemption to apply. FHWA answered in the affirmative the question of whether active duty military personnel, not wearing military uniforms, qualify for a waiver from the CDL requirements if the CMVs are rental trucks or leased buses from the General Services Administration, saying drivers do not need to be in military uniforms to qualify for the waivers as long as they are on active duty.

In 1994, FHWA published a regulatory amendment in part 382 on controlled substances and alcohol use and testing (59 FR 7484, Feb. 15, 1994). The preamble of that rule stated that employers who exclusively employ drivers that are not subject to CDL requirements are not subject to the rule. It continued, “Such employers may be Department of Defense (DoD) agencies who only employ active duty military personnel. Those (DoD) agencies that employ civilian and non-active duty drivers will be subject to these rules and must implement FHWA required testing programs for those civilian and non-active duty drivers.”

The provisions of the 1988 notice of final disposition and the 1994 final rule caused some confusion as to which categories of individuals were exempt from the CDL requirements. In 1996, FHWA issued a final rule (61 FR 9546, Mar. 8, 1996), without notice and comment, in part to clarify the CDL exemptions and, by extension, exemptions from alcohol and drug testing requirements. The 1996 final rule codified the exemption in § 383.3 for military personnel, and it added the sentence, “This exception is not applicable to U.S. Reserve technicians.” There is no further information in the preamble to explain the express exclusion of U.S. Reserve technicians from the exemption. However, it is possible that FHWA was applying the same logic as in the 1993 guidance, meaning that U.S. Reserve technicians were excluded because they do not wear military uniforms and are not subject to the UCMJ.

C. Need for Rulemaking

On October 22, 2023, FMCSA received a petition from Mr. James D. Welch, an employees of the United States Air Force Reserve Command, asking the Agency to amend § 383.3(c). The petition was submitted because, Mr. Welch asserted, the current regulation places an unfair burden on career U.S. Air Force Reserve Technicians, who are required to wear the military uniform in the same manner as National Guard Military Technicians but are not similarly authorized to utilize the CDL exemption. On March 11, 2024, FMCSA granted Mr. Welch's petition, as it has determined that the petition contained adequate justification to initiate a rulemaking.²

² On January 13, 2025, FMCSA also published in the Federal Register (90 FR 2774) a notice of application for exemption submitted by Mr. Welch, in which he sought an exemption for Air Reserve Technicians (ARTs) working under the U.S. Air Force Reserve Command from the requirement to obtain a CDL in order to operate a CMV. Mr. Welch submitted his exemption request on U.S. Air Force Reserve Command letterhead and with his official title, but he did not indicate whether the applicant for the exemption was the U.S. Air Force Reserve Command or himself in his individual capacity. FMCSA granted the exemption on May 20, 2025. (90 FR 21540).

FMCSA has reviewed the existing regulation and proposes to remove the language making the military exception inapplicable to U.S. Reserve Technicians. As noted above, there is conflicting language in the 1988 final disposition and the 1993 guidance. Moreover, since the 1996 rule does not contain any explanation for why FHWA added the language excluding U.S. Reserve technicians, it is unclear whether FHWA was aware of the newly-created dual-status military technician position. The National Defense Authorization Act for Fiscal Year 1996 was enacted on February 10, 1996, while the 1996 FHWA final rule was issued less than a month later, on March 8, 1996. The final rule uses the term “U.S. Reserve technicians,” which is only found in the Agency regulations (now the FMCSRs) and is not defined there, rather than the statutory name for this type of appointment. Mr. Welch also points out that § 383.3(c) is internally contradictory, as it says the exemption is applicable to members of the military reserves but excludes U.S. Reserve technicians who are currently, by law, required as a condition of employment to maintain membership in the military reserves. Mr. Welch states that the required military training is the same for dual-status technicians in the National Guard and the Reserve, and they are held to the same standards.

FMCSA also believes that 49 U.S.C. 31305(d) indicates that dual-status military technicians should be eligible for the military exemption. This statute requires the Secretary to exempt current or former members of the armed forces and current or former members of one of the reserve components from all or part of a driving test if they have had experience in the armed forces or reserve components driving vehicles similar to a CMV (see section 31305(d)(1)(A)). It also requires the Secretary to ensure these individuals may apply for the exemption while serving in the armed forces or reserve components and for the 1-year period beginning on the date on which they separate from service (See section 31305(d)(1)(B)). It further requires the Secretary to credit the training and knowledge these individuals received in the armed forces or reserve components driving vehicles similar to a CMV for purposes of satisfying minimum standards for training and knowledge. 49 U.S.C. 31305(d)(1)(C). The term “reserve component” specifically includes both the Army Reserve and Air Force Reserve (49 U.S.C. 31305(d)(2)(c)(ii) and (vi)), which are the two commands that employ dual-status military technicians. This requirement was added as part of the Fixing America's Surface Transportation Act (Pub. L. 114-94, 129 Stat. 1312 (Dec. 4, 2015)).

The clear implication of 49 U.S.C. 31305(d) is that many military personnel, including reservists, will have experience operating CMVs as part of their duties, but are not required to possess a CDL in order to perform those duties. Since this law postdates the exception in § 383.3(c), and since dual-status military technicians are, by definition, members of a military reserve component, any reasons FHWA may have had for excluding the U.S. Reserve technicians appear to be obsolete.

In his petition, Mr. Welch also states that the Air Force Reserve Technician (ART) program is currently experiencing difficulties in hiring and retaining employees, a problem exacerbated by § 383.3(c) because it requires the Air Force Reserve to provide funding for its technicians to obtain CDLs and make possession of a CDL a requirement in the job description. He says most current CDL holders will not apply for ART jobs because they can make more money elsewhere, and Reserve members who receive a CDL through Air Force-provided training will often leave for better paying private sector positions.

V. Discussion of Proposed Rulemaking

FMCSA proposes to remove the phrase “and national guard military technicians (civilians who are required to wear military uniforms)” and the sentence, “This exception is not applicable to U.S. Reserve technicians,” from 49 CFR 383.3(c) and add dual-status military technicians, as defined in 10 U.S.C. 10216, to the list of exempt personnel. This amendment would explicitly allow dual-status military technicians, regardless of whether they are members of either the Reserves or the National Guard, to qualify for the military exception from the CDL standards. It would remove outdated language, improve clarity for stakeholders, and promote greater efficiency for military units employing dual-status military technicians.

FMCSA is not aware of any meaningful safety concerns that would result from this amendment. DoD administers the Defense Traffic Safety Program, which assures adequate training and supervision of military drivers (32 CFR part 210). FMCSA also granted an exemption from the CDL requirements in part 383 for Air Reserve Technicians on May 20, 2025, stating that military training to operate heavy vehicles is thorough, comprehensive, and compatible with the requirements of FMCSA's Entry-Level Driver Training Rule, found at 83 FR 48964. (90 FR 21540). This proposed rule would make permanent the exemption, as well as extend its application to dual-status military technicians employed by the Army. However, FMCSA solicits public comment on this issue.

VI. International Impacts

Motor carriers and drivers are subject to the laws and regulations of the countries that they operate in, unless an international agreement states otherwise. Drivers and carriers should be aware of the regulatory differences between nations.

VII. Section-by-Section Analysis

This section-by-section analysis describes the proposed changes in numerical order.

Section 383.3 Applicability

In paragraph (c), FMCSA would remove the phrase “and national guard military technicians (civilians who are required to wear military uniforms)” and the sentence “This exception is not applicable to U.S. Reserve technicians.” FMCSA would add the phrase, “dual-status military technicians, as defined in 10 U.S.C. 10216” to the list of exempt personnel.

VIII. Regulatory Analyses

A. Executive Order (E.O.) 12866 (Regulatory Planning and Review), E.O. 13563 (Improving Regulation and Regulatory Review), and DOT Regulatory Policies and Procedures

FMCSA has considered the impact of this NPRM under E.O. 12866 (58 FR 51735, Oct. 4, 1993), Regulatory Planning and Review, E.O. 13563 (76 FR 3821, Jan. 21, 2011), Improving Regulation and Regulatory Review, and DOT Regulatory Policies and Procedures. The Office of Information and Regulatory Affairs within the Office of Management and Budget (OMB) determined that this NPRM is not a significant regulatory action under section 3(f) of E.O. 12866, as supplemented by E.O. 13563, and does not require an assessment of potential costs and benefits under section 6(a)(3) of that order. Accordingly, OMB has not reviewed it under that E.O.

The proposed rule would remove the language making the military exception inapplicable to U.S. Reserve Technicians. This would allow the exception that already applies to certain military and Reserve personnel who operate CMVs for military purposes to also apply to U.S. Reserve Technicians operating CMVs for military purposes. The petition for rulemaking states that the ART program is experiencing difficulties in hiring and retaining employees and the current exclusion to the exception further exacerbates these concerns. Under the existing regulations, dual-status military technicians operating under the oversight of either the Army Reserve Command or the Air Force Reserve Command (but not those who are members of the Army National Guard or Air Force National Guard) are required to obtain training prior to receiving their CDL, causing an undue funding burden on the ART program. FMCSA anticipates that this rulemaking would result in cost savings for the ART program, and any similar program administered by the Army Reserve Command, by alleviating the need to receive training at a training provider located listed on FMCSA's training provider registry. The final rule requiring entry-level driver training (ELDT) training (81 FR 88732, Dec. 8, 2016) estimated that the tuition cost would range from $1,430 for a Class B license to $2,340 for a Class A license, both in 2014 dollars. Inflating those values to 2024 dollars using the Consumer Price Index for all Urban Consumers, FMCSA anticipates that the avoided training costs for each dual-status military technician driver would range from $1,900 to $3,100. The Reserve Commands may also experience cost savings in the form of reduced fees for CDLs. Lacking data on the number of drivers that would no longer be receiving training each year, FMCSA is unable to quantify the total cost savings associated with this rulemaking. FMCSA does not anticipate that this rulemaking would impact safety. The dual-status military technicians covered by this rulemaking transport items on an installation with multiple layers of safety requirements along preapproved routes.

FMCSA requests comment on the number of drivers that would be impacted by this rulemaking each year, whether they would be considered Class A or Class B drivers, and any additional areas of cost savings associated with the exception provided in this NPRM. FMCSA also requests comment on any safety impacts that may result from the provisions in this rulemaking.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ³

³ Executive Office of the President. Executive Order 14192 of January 31, 2025. Unleashing Prosperity Through Deregulation. 90 FR 9065-9067. Feb. 6, 2025.

Implementation guidance for E.O. 14192 issued by OMB (Memorandum M-25-20, March 26, 2025) defines two different types of E.O. 14192 actions: an E.O. 14192 deregulatory action, and an E.O. 14192 regulatory action.⁴

⁴ Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This proposed rulemaking is expected to have total costs less than zero as Reserve Command drivers would no longer be required to receive ELDT training or obtain a CDL, and therefore would be considered an E.O. 14192 deregulatory action upon issuance of a final rule. As discussed above, FMCSA is unable to quantify the cost savings associated with this proposal without additional data on the number and Class of drivers impacted by this rulemaking.

C. Advance Notice of Proposed Rulemaking

Under 49 U.S.C. 31136(g), FMCSA is required to publish an advance notice of proposed rulemaking (ANPRM) or proceed with a negotiated rulemaking, if a proposed safety rule “under this part” ⁵ is likely to lead to the promulgation of a major rule.⁶ As this proposed rule is not likely to result in the promulgation of a major rule, the Agency is not required to issue an ANPRM or to proceed with a negotiated rulemaking.

⁵ Part B of Subtitle VI of Title 49, United States Code, i.e., 49 U.S.C. chapters 311-317.

⁶ A major rule means any rule that the Office of Management and Budget finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁷ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses. No regulatory flexibility analysis is required, however, if the head of an agency or an appropriate designee certifies that the rule will not have a significant economic impact on a substantial number of small entities.

⁷ Public Law 104-121, 110 Stat. 857 (Mar. 29, 1996).

This rulemaking would impact dual-status military technician drivers and the Army Reserve Command and Air Force Reserve Command, which are part of the U.S. Military. Drivers are not considered small entities because they do not meet the definition of a small entity in section 601 of the RFA. Specifically, drivers are considered neither a small business under section 601(3) of the RFA, nor are they considered a small organization under section 601(4) of the RFA. The U.S. Military is also not considered a small entity because it does not meet the definition of small entity in section 601 of the RFA. Therefore, this rulemaking would not impact a substantial number of small entities.

This rulemaking would result in cost savings for the Reserve Commands by eliminating the need to fund ELDT training for dual-status military technician drivers. FMCSA cannot estimate the total cost savings that would result from this rulemaking, but anticipates that it would not be a significant impact. Consequently, I certify that the proposed action would not have a significant economic impact on a substantial number of small entities.

E. Assistance for Small Entities

In accordance with section 213(a) of the Small Business Regulatory Enforcement Fairness Act of 1996 (Pub. L. 104-121, 110 Stat. 857), FMCSA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) (UMRA) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this rulemaking would not result in such an expenditure, a written statement is not required.

G. Paperwork Reduction Act

This proposed rule contains no new information collection requirements under the Paperwork Reduction Act of 1995 (44 U.S.C. 3501-3520).

H. E.O. 13132 (Federalism)

A rule has implications for federalism under section 1(a) of E.O. 13132 if it has “substantial direct effects on the States, on the relationship between the national government and the States, or on the distribution of power and responsibilities among the various levels of government.”

FMCSA has determined that this rulemaking would not have substantial direct costs on or for States, nor would it limit the policymaking discretion of States. Although States would be required to exempt dual-status military technicians operating CMVs for military purposes from CDL requirements, this is a small population of drivers and States are already required to exempt other listed individuals from those requirements. Moreover, States may already consider some dual-status military technicians exempt due to their status as members of Reserve Components, whether in the National Guard, the Army Reserve, or the Air Force Reserve. Therefore, this rulemaking does not have sufficient federalism implications to warrant the preparation of a Federalism Impact Statement.

I. Privacy

The Consolidated Appropriations Act, 2005,⁸ requires the Agency to assess the privacy impact of a regulation that will affect the privacy of individuals. This NPRM would not require the collection of personally identifiable information.

⁸ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁹ requires Federal agencies to conduct a Privacy Impact Analysis (PIA) for new or substantially changed technology that collects, maintains, or disseminates information in an identifiable form. No new or substantially changed technology would collect, maintain, or disseminate information as a result of this rulemaking. Accordingly, FMCSA has not conducted a PIA.

⁹ Public Law 107-347, sec. 208, 116 Stat. 2899, 2921 (Dec. 17, 2002).

In addition, the Agency will complete a Privacy Threshold Assessment (PTA) to evaluate the risks and effects the proposed rulemaking might have on collecting, storing, and sharing personally identifiable information. The PTA will be submitted to FMCSA's Privacy Officer for review and preliminary adjudication and to DOT's Privacy Officer for review and final adjudication.

J. E.O. 13175 (Indian Tribal Governments)

This rulemaking does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this proposed rule pursuant to the National Environmental Policy Act of 1969 (42 U.S.C. 4321 et seq.). This action would likely fall under a published categorical exclusion and thus be excluded from further analysis and documentation in an environmental assessment or environmental impact statement under FMCSA Order 5610.1 (69 FR 9680), Appendix 2. Specifically, it likely falls under paragraph (6)(z), which covers regulations establishing the minimum qualifications for persons who drive CMVs as, for, or on behalf of motor carriers; and the minimum duties of motor carriers with respect to the qualifications of their drivers. The Agency further believes this proposed rule, if finalized, would not have a reasonably foreseeable significant effect on the quality of the human environment. The public is invited to comment on the impact of the proposed Agency action.

L. Rulemaking Summary

In accordance with 5 U.S.C. 553(b)(4), a summary of this proposed rule may be found at regulations.gov, under the docket number.

List of Subjects in 49 CFR Part 383

Administrative practice and procedure, Alcohol abuse, Drug abuse, Drug testing, Highway safety, Motor carriers, Penalties, Safety, Transportation.

Accordingly, FMCSA proposes to amend 49 CFR part 383 to read as follows:

PART 383—COMMERCIAL DRIVER'S LICENSE STANDARDS; REQUIREMENTS AND PENALTIES

1. The authority citation for part 383 continues to read as follows:

Authority: 49 U.S.C. 521, 31136, 31301 et seq., and 31502, secs. 214 and 215 of Pub. L. 106-159, 113 Stat. 1748, 1766, 1767; sec. 1012(b) of Pub. L. 107-56, 115 Stat. 272, 297, sec. 4140 of Pub. L. 109-59, 119 Stat. 1144, 1746; sec. 32934 of Pub. L. 112-141, 126 Stat. 405, 830; sec. 23019 of Pub. L. 117-58, 135 Stat. 429, 777; and 49 CFR 1.87.

2. Amend § 383.3 by revising paragraph (c) to read as follows:

§ 383.3 Applicability.

* * * * *

(c) Exception for certain military drivers. Each State must exempt from the requirements of this part individuals who operate CMVs for military purposes. This exception is applicable to active duty military personnel; members of the military reserves; members of the national guard on active duty, including personnel on full-time national guard duty and personnel on part-time national guard training; dual-status military technicians, as defined in 10 U.S.C. 10216; and active duty U.S. Coast Guard personnel.

Issued under authority delegated in 49 CFR 1.87.
Sue Lawless,
Assistant Administrator.

[FR Doc. 2025-09720 Filed 5-27-25; 4:15 pm]

BILLING CODE 4910-EX-P